DEPARTMENT OF VETERANS AFFAIRS

Publication of Choice Act Section 201 Independent Assessments and Report—Change of Website Location

AGENCY: Department of Veterans Affairs.

ACTION: Notice.

SUMMARY: This Federal Register Notice announces a change in website location of a 2015 report entitled, “Independent Assessment of the Health Care Delivery Systems and Management Processes of the Department of Veterans Affairs (Independent Assessment Report).” The Independent Assessment Report was required by Section 201 of the Veterans Access, Choice, and Accountability Act of 2014 (Choice Act). Section 201 also required the Secretary of Veterans Affairs (VA) to publish the Report in the Federal Register and on a Department internet website accessible to the public. VA published the Federal Register Notice, which included the website address on September 18, 2015.

ADDRESSES: The Independent Assessment Report is now available on the following website: https://www.va.gov/HEALTHPOLICYPLANNING/section1.asp.

FOR FURTHER INFORMATION CONTACT: Laura Bowman, Program Analyst, Veterans Health Administration, 810 Vermont Avenue NW, Washington, DC 20420 Telephone: (202) 461-7100. (This is not a toll-free number).

SUPPLEMENTARY INFORMATION: Section 201 of the Choice Act required the Secretary to contract with a private entity to conduct an independent assessment of VA health care. Within 60 days of completing the assessment, the private entity was required to submit a report of its findings and recommendations. The Secretary was then required to publish the report in the Federal Register and on a publicly accessible website of the Department. VA published the Federal Register Notice on September 18, 2015 (80 FR 56550). VA also published the Independent Assessment Report on its website at https://www.va.gov/opa/choiceact/factsheets_and_details.asp. Since then, VA has simplified the website content to give Veterans easier access to practical information about eligibility and participation in the Veterans' Choice Program. As part of this redesign, VA moved the Independent Assessment Report to https://www.va.gov/HEALTHPOLICYPLANNING/section1.asp. This Federal Register Notice informs the public of this change so that Veterans and other stakeholders will continue to have access to these important resources.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on January 23, 2018, for publication.

Approved: January 23, 2018.
Jeffrey Martin,
Impact Analyst, Office of Regulation Policy & Management, Office of the Secretary, Department of Veterans Affairs.

[FR Doc. 2018-02158 Filed 2-2-18; 8:45 am]

BILLING CODE 8320-01-P